DEPARTMENT OF LABOR

Employment and Training Administration

[TA-W-53,324]

New River Industries, Inc. Including Temporary Workers of Southern Employment, Radford, VA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on December 12, 2003, applicable to workers of New River Industries, Inc. located in Radford, Virginia. The notice will soon be published in the Federal Register.

At the request of a petitioner, the Department reviewed the certification for workers of the subject firm. The workers produce broadwoven fabric.

The petitioner indicates that some workers separated from employment at the subject firm, prior to becoming permanent employees of New River Industries in Radford, Virginia, were working at the plant through a temporary employment service agency, Southern Employment.

The intent of the Department's certification is to provide coverage to all workers at New River Industries, Radford, Virginia, who were adversely affected by increases in imports.

Therefore, the Department is amending the certification to include temporary workers at the subject firm whose wages were reported to Southern Employment.

The amended notice applicable to TA-W-53,324 is hereby issued as follows:

“All workers of New River Industries, Inc., Radford, Virginia, and temporary workers of Southern Employment engaged in employment related to the production of broadwoven fabric at New River Industries, Inc., Radford, Virginia, who became totally or partially separated from employment on or after October 15, 2002, through December 12, 2005, are eligible to apply for adjustment assistance under Section 223 of the Trade Act of 1974, and alternative trade adjustment assistance under Section 246 of the Trade Act of 1974, as amended.”

Signed at Washington, DC, this 30th day of December 2003.
Linda G. Poole,
Certifying Officer, Division of Trade Adjustment Assistance.

[FR Doc. 04-999 Filed 1-15-04; 8:45 am]

BILLING CODE 4510-30-P